DEPARTMENT OF EDUCATION

Office of Elementary and Secondary Education

Overview Information; College Assistance Migrant Program (CAMP); Notice Inviting Applications for New Awards for Fiscal Year (FY) 2004

Catalog of Federal Domestic Assistance (CFDA) Number: CFDA 84.149A.

DATES: Applications Available. February 5, 2004.

Deadline for Transmittal of Applications: April 5, 2004.

Deadline for Intergovernmental Review: June 4, 2004.

Eligible Applicants: Institutions of higher education (IHEs) or private non-profit agencies working in cooperation with IHEs, including faith-based organizations, provided that they meet all statutory and regulatory requirements.

Estimated Available Funds: $4,500,000.

Estimated Range of Awards: $150,000-$425,000.

Estimated Average Size of Awards: $350,000.

Estimated Number of Awards: 14.

Note: The Department is not bound by any estimates in this notice.

Project Period: Up to 60 months.

Full Text of Announcement

I. Funding Opportunity Description

Purpose of Program: The purpose of the College Assistance Migrant Program (CAMP) is to provide the academic and financial support necessary to help migrant and seasonal farmworkers and their children successfully complete their first year of college.

Priority: In accordance with 34 CFR 75.105(b)(2)(ii), this priority is from section 75.225 of the Education Department General Administrative Regulations (EDGAR), which apply to this program (34 CFR 75.225).

Competitive Preference Priority—Novice Applicant

For FY 2004 this priority is a competitive preference priority. Under 34 CFR 75.105(c)(2)(i) we award an additional 5 points to an application meeting this competitive priority.

This priority is:

Novice Applicant

The applicant must be a “novice applicant” as defined in 34 CFR 75.225.

Program Authority: 20 U.S.C. 1070d-2.

Applicable Regulations: (a) The Education Department General Administrative Regulations (EDGAR) in 34 CFR parts 74, 75, 77, 79, 82, 84, 85, 86, 97, 98, and 99. (b) 34 CFR part 206. (c) the definitions of a migrant agricultural worker in 34 CFR 200.81. (d) 20 CFR part 669.110 and 669.320, respectively.

II. Award Information

Type of Award: Discretionary grants, that are awarded for a five-year grant cycle.

Estimated Available Funds: $4,500,000.

Estimated Range of Awards: $150,000-$425,000.

Estimated Average Size of Awards: $350,000.

Estimated Number of Awards: 14.

Note: The Department is not bound by any estimates in this notice.

Project Period: Up to 60 months.

III. Eligibility Information

1. Eligible Applicants: Institutions of higher education (IHEs) or private non-profit organizations, working in cooperation with IHEs, including faith-based organizations, provided that they meet all statutory and regulatory requirements.

2. Cost Sharing or Matching: This competition does not involve cost sharing or matching.

IV. Application and Submission Information

1. Address to Request Application Package: Mary L. Suazo, U.S. Department of Education, Office of Migrant Education, Room 3E227, 400 Maryland Ave., SW., Washington, DC 20202-6135. Telephone: (202) 260-1396 or by e-mail: mary.suazo@ed.gov.

If you use a telecommunications device for the deaf (TDD), you may call the Federal Information Relay Service (FIRS) at 1-800-877-8339.

Individuals with disabilities may obtain a copy of the application package in an alternative format (e.g., Braille, large print, audiotape, or computer diskette) or by contacting the program contact person listed in this section.

2. Content and Form of Application Submission: Requirements concerning the content of an application, together with the forms you must submit, are in the application package for this competition. Page Limit: The application narrative (Part III of the application) is where you, the applicant, address the selection criteria that reviewers use to evaluate your application. You must limit Part III of the application to the equivalent of no more than 25 pages, using the following standards:

• A “page” is 8.5″ x 11″, on one side only, with 1″ margins at the top, bottom, and both sides.

• Double space (no more than three lines per vertical inch) all text in the application narrative (Part III), including titles, headings, footnotes, quotations, references, and captions. However, you may single space all text in charts, tables, figures, and graphs. Charts, tables, figures, and graphs presented in the application narrative count toward the page limit.

• Use a font that is either 12 point or larger or no smaller than 10 pitch (characters per inch).

• Appendices are limited to the following: Resumes, job descriptions, letters of support, bibliography, and additional information relevant to the support of the proposal.

The page limit does not apply to Part I, the cover sheet; Part II, the budget section, including the budget justification narrative; Part IV, the assurances and certifications; or the one-page abstract, the resumes, the bibliography, or the letters of support. However, you must include all of the application narrative in Part III of the application.

Our reviewers will not read any pages of your application that—

• Exceed the page limit if you apply these standards; or

• Exceed the equivalent of the page limit if you apply other standards.

3. Submission Dates and Times:

Applications Available: February 5, 2004.

Deadline for Transmittal of Applications: April 5, 2004. The dates and times for transmittal of applications by mail or by hand (including a courier service or commercial carrier) are in the application package for this competition. The application package also specifies the hours of operation of the e-Application Web site.

We do not consider an application that does not comply with the deadline requirements.

Deadline for Intergovernmental Review: June 4, 2004.

4. Intergovernmental Review: This competition is subject to Executive Order 12372 and the regulations in 34 part 79. Information about Intergovernmental Review of Federal Programs under Executive Order 12372 is in the application package for this competition.

5. Funding Restrictions: We reference regulations outlining funding restrictions in the Applicable Regulations section of this notice.

6. Other Submission Requirements: Instructions and requirements for the transmittal of applications by mail or by hand (including a courier service or commercial carrier) are in the application package for this program.

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. The College Assistance Migrant Program, CFDA Number 84.149A, is one of the programs that is included in the pilot project. If you are an applicant under the College Assistance Migrant Program competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information-Non-Construction Programs (ED 524), and all necessary assurances and certifications.

• You e-Application must comply with any page limit requirements described in this notice.

• After you electronically submit your application, you will receive an automatic acknowledgement, which will include a PR/Award number (an identifying number unique to your application.)

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the College Assistance Migrant Program and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-Grants help desk at 1-888-336-8930.

You may access the electronic grant application for the College Assistance Migrant Program at: http://e-grants.ed.gov.

V. Application Review Information

1. Selection Criteria: The selection criteria for this competition are in the application package.

2. Review and Selection Process: Additional factors we consider in selecting an application for an award are Prior Experience. Applicants that are currently administering a CAMP project that is in the final year of the five-year grant cycle, are eligible to receive up to 15 points for prior performance in accordance with Section 418A(e) of the Higher Education Act of 1965 as amended.

VI. Award Administration Information

1. Award Notices: If your application is successful, we notify your U.S. Representative and U.S. Senators and send you a Grant Award Notice (GAN). We may also notify you informallly.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must provide annual performance and financial reports as specified by the Secretary in 34 CFR 75.118.

4. Performance Measures: Under the Government Performance and Results Act (GPRA), measures have been developed for evaluating the overall effectiveness of the College Assistance Migrant Program. These measures are: (1) the number and percent of CAMP participants who successfully complete the first year of college, and (2) the number and percent of CAMP participants who continue to be enrolled in postsecondary education.

All grantees will be reuqired to submit an annual performance report documenting their success in addressing these performance measures.

VII. Agency Contact

FOR FURTHER INFORMATION CONTACT: Mary L. Suazo, U.S. Department of Education, Office of Elementary and Secondary Education, Office of Migrant Education, 400 Maryland Avenue, SW., room 3E227, Washington, DC 20202-6135. Telephone number: (202) 260-1396, or by e-mail: mary.suazo@ed.gov.

If you use a telecommunications device for the deaf (TDD) you may call the Federal Information Relay Service (FIRS) at 1-800-877-8339.

Individuals with disabilities may obtain this document in an alternative format (e.g., Braille, large print, audiotape, or computer diskette) on request to the contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: www.gpoaccess.gov/nara/index.html.

Dated: February 2, 2004.
Raymond Simon,
Assistant Secretary, Office of Elementary and Secondary Education.

[FR Doc. 04-2518 Filed 2-4-04; 8:45 am]

BILLING CODE 4000-01-M